DEPARTMENT OF COMMERCE

National Oceanic and Atmospheric Administration

RIN: 0648-XQ99

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold the following public meetings in September 2009: Meeting with Hawaii Longline Association on management measures for bigeye tuna catch limits in the Western & Central Pacific Ocean and in the Eastern Pacific Ocean (September 14, 2009, 2 p.m. to 5 p.m. HST); Pelagic Plan Team (PPT) meeting on management measures for bigeye tuna catch limits in the Western & Central Pacific Ocean (September 15, 2009, 1 p.m. to 5 p.m. HST); Western Pacific Stock Assessment Review (WPSAR) for Hawaiian Islands bottomfish (October 7, 2009, 1 p.m. to 5 p.m. HST). All meetings will be held in Honolulu, Hawaii and, if necessary, may run be beyond the stated finishing times. For specific dates and times, see SUPPLEMENTARY INFORMATION.

ADDRESSES: The PPT and WPSAR meetings will be held at the Western Pacific Regional Fishery Management Council Office, Suite 1400, Bishop Street, Honolulu, HI 96813; telephone: (1-808) 522 8220. The meeting with the Hawaii Longline Association will be held at Fresh Island Fish Pier 38, 1135 N. Nimitz Hwy Honolulu, HI 96817; telephone: (1-808) 831-4911.

FOR FURTHER INFORMATION CONTACT: Kitty M. Simonds, Executive Director; telephone: (808) 522-8220.

SUPPLEMENTARY INFORMATION: The meeting with Hawaii Longline Association on management measures for bigeye tuna catch limits in the Western & Central Pacific Ocean and in the Eastern Pacific Ocean will be held at the conference room of Fresh Island Fish, Pier 38, 1135 N. Nimitz Hwy Honolulu, HI, 96817 between 2 and 5 p.m. HST.

The Pelagic Plan Team will be convened at the Council Office, 1164 Bishop Street, Suite 1400, Honolulu, HI 96814 between 1 and 5 p.m. Interested parties who are unable to attend in person will be able to participate via teleconference using the Council's teleconferencing facility (1-888) 482-3560, pass code 5228220).

The Western Pacific Stock Assessment Review for Hawaiian Islands bottomfish will be held at the Council Office 91164 Bishop Street, Suite 1400, Honolulu HI 96813 between 1 p.m. and 5 p.m. HST. Interested parties who are unable to attend in person will be able to participate via teleconference using the Council's teleconferencing facility (1-888) 482-3560, pass code 5228220.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 12, 2009.
William D. Chappell,
Acting Director, Office of Sustainable Fisheries, National Marine Fisheries Service.

[FR Doc. 09-19660 Filed 8-17-09; 8:45 am]

BILLING CODE 3510-22-S